DEPARTMENT OF HEALTH AND HUMAN SERVICES

Administration for Children and Families

Proposed Information Collection Activity; Comment Request

Proposed Projects

Title: Cross-Site Evaluation of the Infant Adoption Awareness Training Program for Projects Initially Funded in Fiscal Year 2006.

OMB No.: 0970-0371.

Background and Brief Description: The Administration for Children and Families' (ACF) Children's Bureau (CB), is requesting extension of the OMB-approved data collection instruments used in the Cross-Site Evaluation of the Infant Adoption Awareness Training Program (IAATP). The instruments that require extension include the IAATP Trainee Pretest Survey and the IAATP Trainee Follow-up Survey.

Title XII, Subtitle A, of the Children's Health Act of 2000 (CHA) authorizes the Department of Health and Human Services to make Infant Adoption Awareness Training grants available to national, regional, and local adoption organizations for the purposes of developing and implementing programs that train the staff of public and non-profit private health service organizations to provide adoption information and referrals to pregnant women on an equal basis with all other courses of action included in non-directive counseling of pregnant women. Section 1201(a)(2)(A) of the IAATP legislation requires grantees to develop and deliver trainings that are consistent with the Best Practice Guidelines for Infant Adoption Awareness Training. The IAATP guidelines address training goals, basic skills, curriculum and training structure. A complete description of the guidelines is available at http://www.acf.hhs.gov/programs/cb/programs_fund/discretionary/iaatp.htm.

The funded adoption organizations agree to make every effort to ensure that the recipients of the training are the staff of “eligible health centers” as specified in the grant. As defined in the legislation, these entities include: (a) Eligible health centers that receive grants under authority contained in Title X of the Public Health Service Act (relating to voluntary family planning projects); (b) eligible health centers that receive grants under Section 330 of the Public Health Service Act (relating to community health centers, migrant health centers, and centers regarding homeless individuals and residents of public housing); and (c) eligible health centers that receive grants under the Children's Health Act of 2000 for the provision of services in schools (subsection (a)(5), 42 U.S.C. 254c-6(a)(5)(C)).

A total of six organizations were awarded IAATP funding in FY2006. In 2011, each of these organizations was awarded a new grant for a brief (17 month) project period. The purpose of the new project period, which commenced October 1, 2011, is for the grantees to enhance, adopt, or adapt their existing IAATP curriculum; implement the modified training; and evaluate the outcomes of participants in the training. Specifically, the new cooperative agreements require the grantees to emphasize and strengthen four training areas that preliminary cross-site evaluation findings indicate require improvement: (1) Adoption law, (2) non-directive counseling, (3) adolescent development and the impact on adoption decision making, and (4) adoption types and practices. The cooperative agreements also require the grantees to increase and maximize penetration of the training within the target population of eligible health care centers.

As in the previous grant period, each grantee is required to participate in the national cross-site evaluation of the extent to which the IAATP training objectives are met. The Infant Adoption Awareness Training Program Trainee Survey is the primary outcome data collection instrument for the national cross-site evaluation. Respondents complete the survey prior to receiving the training and approximately 90 days after the training, which provides an assessment of the extent to which trainees demonstrate sustained gains in their knowledge about adoption, and the impact of the training on their subsequent work with pregnant women. Extension of the pretest and follow-up data collection instruments beyond the December 31, 2012 expiration date is necessary in order to complete a cross-site evaluation of the extent to which the IAATP grantees fulfill the key objectives of the new grant period (as stated above). The data collection instruments will also continue to be utilized to determine whether the grantees achieve the core objectives of the IAATP, which include enhancing adoption knowledge within the target population; providing adoption information on an equal basis with all other options; and increasing awareness of community resources for adoption.

Pretest and follow-up versions of the survey require approximately 15 and 10 minutes, respectively, to complete. The estimated response time for the follow-up survey includes time for respondents to access the Web-based survey and complete the survey online. Respondents will not need to implement a recordkeeping system or compile source data in order to complete the survey. Where possible, fields in the follow-up version of the survey are pre-filled with static data from the respondent's pretest (e.g., demographics, agency type) in order to further expedite completion of the survey and minimize respondent burden.

Respondents: Infant Adoption Awareness Program Trainees.

Annual Burden Estimates
Number of instrument | Average burden | Number of respondents | Responses per respondent | Hours per response | Total burden hours
IAATP: Trainee Survey Pretest Administration | 870 | 1 | 0.25 | 217.5
IAATP: Trainee Survey Follow-Up Administration | 870 | 1 | 0.17 | 147.9

Estimated Total Annual Burden Hours: 365.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden information to be collected; and (d) ways to minimize the burden of the collection of information on respondents, including through the use of automated collection techniques or other forms of information technology. Consideration will be given to comments and suggestions submitted within 60 days of this publication.

Robert Sargis,
Reports Clearance Officer.

[FR Doc. 2012-11526 Filed 5-11-12; 8:45 am]

BILLING CODE 4184-01-P